DEPARTMENT OF VETERANS AFFAIRS

[Docket No. VA-2025-VACO-0002]

Annual Pay Ranges for Physicians, Dentists, Podiatrists, and Optometrists of the Veterans Health Administration (VHA)

AGENCY: Department of Veterans Affairs.

ACTION: Notice.

SUMMARY: The Department of Veterans Affairs (VA) is hereby giving notice of an update to annual pay ranges, which is the sum of the base pay rate and market pay for VHA physicians, dentists, podiatrists, and optometrists as prescribed by the Secretary for Department-wide applicability. Optometrists are now included in the annual pay ranges pursuant to the Senator Elizabeth Dole 21st Century Veterans Healthcare and Benefits Improvement Act. The pay table placement of optometrists is intended to enhance the flexibility of the Department to recruit, develop, and retain the most highly qualified optometrists to serve our Nation's veterans and maintain a standard of excellence in the VA health care system.

DATES: Annual pay ranges are applicable beginning on December 28, 2025.

FOR FURTHER INFORMATION CONTACT: James Tolley, Human Resources Specialist (Compensation), Human Resources Center of Expertise, Workforce Management and Consulting Office, Veterans Health Administration, (843) 864-3630.

SUPPLEMENTARY INFORMATION:

Background

As required by the “Department of Veterans Affairs Health Care Personnel Enhancement Act of 2004,” (Pub. L. 108-445 dated December 3, 2004) VA is hereby giving notice of annual pay ranges for VHA physicians, dentists, podiatrists, and optometrists as prescribed by the Secretary for Department-wide applicability. The major provisions of the law established a new pay system for VHA physicians and dentists consisting of base pay, market pay, and performance pay. While the base pay component is set by statute, market pay is intended to reflect the recruitment and retention needs for the specialty or assignment of a particular physician or dentist at a facility. Further, performance pay is intended to recognize the achievement of specific goals and performance objectives prescribed annually. These three components create a system of pay that is driven by both market indicators and employee performance, while recognizing employee tenure in VHA.

On April 8, 2019, the President signed Public Law 116-12, which amended 38 U.S.C. 7431 to include podiatrists within the physician and dentist pay system, authorizing podiatrists to receive base pay, market pay, and performance pay. With the amendment, podiatrists are also subject to the same limitations and requirements as physicians and dentists under section 7431.

On January 2, 2025, the President signed Public Law 118-210 which further amended 38 U.S.C. 7431 to include optometrists with the physician, dentist, and podiatrist pay system, authorizing optometrists to receive base pay, market pay, and performance pay. With this amendment, optometrists are also subject to the same limitations and requirements as physicians, dentists, and podiatrists under section 7431.

Under 38 U.S.C. 7431(e)(1)(A), not less often than once every 2 years, the Secretary must prescribe for Department-wide applicability the minimum and maximum amounts of annual pay that may be paid to VHA physicians, podiatrists, optometrists, and dentists. Further, 38 U.S.C. 7431(e)(1)(B) allows the Secretary to prescribe separate minimum and maximum amounts of annual pay for a specialty or assignment. Pursuant to 38 U.S.C. 7431(e)(1)(C), amounts prescribed under paragraph 7431(e) shall be published in the Federal Register and shall not take effect until at least 60 days after date of publication.

In addition, under 38 U.S.C. 7431(e)(4), the total amount of compensation paid to a physician, podiatrist, optometrist, or dentist cannot exceed, in any year, the amount of annual compensation (excluding expenses) of the President. For the purposes of section 7431(e)(4), “the total amount of compensation” includes base pay, market pay, performance pay, and fee basis earnings, but excludes recruitment, relocation, and retention incentives ¹ and incentive awards for performance and special contributions from total compensation calculations.

¹ In accordance with Title IX, Section 906 of the “Sergeant First Class Heath Robinson Honoring our Promise to Address Comprehensive Toxics (PACT) Act of 2022” (Pub. L. 117-168 dated August 10, 2022), recruitment, relocation, and retention incentives, along with performance awards, shall not be considered in calculating the limitation under 38 U.S.C. 7431(e)(4).

Discussion

VA identified and utilized salary survey data sources which most closely represent VA comparability in the areas of practice setting, employment environment, and hospital/health care system. The Gallagher Advanced Practice Provider Survey, Mercer Integrated Health Network (INH) Physician Practices/Outpatient Facilities Survey, and Payfactors Market Data Healthcare Providers and Services Survey report were collectively utilized as benchmarks from which to prescribe annual pay ranges for optometrists across the scope of assignments/specialties within the Department. While aggregating the data, a preponderance of weight was given to those surveys which most directly resembled the environment of the Department.

In developing pay table placement and annual salary rates of optometrists, a few distinctive principles were factored into the compensation analysis of the data. The first principle is to ensure that both the minimum and maximum salary is at a level that accommodates special employment situations, from fellowships and medical research career development awards to Nobel Laureates, and high-cost areas for optometrists. The second principle is to provide ranges large enough to accommodate career progression, geographic differences, sub-specialization, and other special factors for optometrists.

Several VA data sources were reviewed against available, relevant private sector data. Optometry is placed into one clinical pay range that reflects comparable complexity in salary, recruitment, and retention considerations.

Updates to Pay Table 1

On July 25, 2025, VA published notice in the Federal Register of the annual pay ranges for VHA physicians, dentists, and podiatrists. 90 FR 35379. At the time the Steering Committee met in 2024, optometrists were not included in the covered clinical specialties for Pay Table 1. After the passage of Public Law 118-210 in 2025, a separate Steering Committee met to determine the annual pay ranges for optometrists. The list of covered clinical specialties for Pay Table 1, listed below, now includes optometrists. Additionally, the minimum pay range for Pay Table 1, Tier 1, has been increased from $121,000 to $123,077 for all covered clinical specialties consistent with the January 12, 2025, General Adjustment.

Pay Table 1—Clinical Specialty
Tier level | Minimum | Maximum
Tier 1 | $123,077 | $315,000
Tier 2 | 145,000 | 335,000
Tier 3 | 165,000 | 350,000

Pay Table 1—Covered Clinical Specialties

Allergy and Immunology

Endocrinology

Endodontics

Family Medicine

General Practice—Dentistry

Geneticist

Geriatrics

Hospital Epidemiology

Hospitalist

Infectious Diseases

Internal Medicine

Neurology

Optometry

Palliative Care

Periodontics

Physician Medicine and Rehabilitation/Spinal Cord Injury

Podiatry (General)

Preventive Medicine

Primary Care

Prosthodontics

Psychiatry

Rheumatology

Urgent Care

All other specialties or assignments

Updates to Pay Table 2

Consistent with the January 12, 2025, General Adjustment mentioned above, the minimum pay range for Pay Table 2, Tier 1, has also been increased from $115,587 to $123,077. While no changes were made to the covered clinical specialties, the updated Pay Table 2 is provided below.

Pay Table 2—Clinical Specialty
Tier level | Minimum | Maximum
Tier 1 | $123,077 | $400,000
Tier 2 | 200,000 | 400,000
Tier 3 | 225,000 | 400,000

Pay Table 2—Covered Clinical Specialties

Anesthesiology

Cardiology

Critical Care

Dermatology and MOHS Dermatology

Emergency Medicine

Gastroenterology

Gynecology

Health Informatics

Hematology—Oncology

Nephrology

Neurosurgery

Nuclear Medicine

Ophthalmology

Oral Surgery

Otolaryngology

Pain Management

Pathology—Clinical and Anatomic

Podiatry (Surgery—Forefoot, Rearfoot/Ankle, Advanced Rearfoot/Ankle)

Pulmonary

Radiology

Radiation Oncology

Sleep Medicine

Surgery—Cardio-thoracic, General, Hand, Neuro, Orthopedic, Plastic, Thoracic, Transplant, and Vascular

Urology

Signing Authority

Douglas A. Collins, Secretary of Veterans Affairs, approved this document on October 21, 2025, and authorized the undersigned to sign and submit the document to the Office of the Federal Register for publication electronically as an official document of the Department of Veterans Affairs.

Taylor N. Mattson,
Alternate Federal Register Liaison Officer, Department of Veterans Affairs.

[FR Doc. 2025-19651 Filed 10-23-25; 8:45 am]

BILLING CODE 8320-01-P